INTERNATIONAL TRADE COMMISSION

[Investigation No. 337-TA-1074]

Certain Industrial Automation Systems and Components Thereof Including Control Systems, Controllers, Visualization Hardware, Motion and Motor Control Systems, Networking Equipment, Safety Devices, and Power Supplies; Notice of Commission Determination To Extend the Target Date

AGENCY: U.S. International Trade Commission.

ACTION: Notice.

SUMMARY: Notice is hereby given that the U.S. International Trade Commission has determined to extend the target date by six weeks, from February 25, 2019, to April 8, 2019. As set forth below, the Commission also extends the deadlines for filing written submissions and reply submissions on the issues of remedy, the public interest, and bonding.

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on October 16, 2017, based on a complaint filed by Complainant Rockwell Automation, Inc. of Milwaukee, Wisconsin. See 82 FR 48113-15 (Oct. 16, 2017). The complaint, as supplemented, alleges violations of section 337 based on the infringement of certain registered trademarks and copyrights and on unfair methods of competition and unfair acts in the importation or sale of certain industrial automation systems and components thereof including control systems, controllers, visualization hardware, motion and motor control systems, networking equipment, safety devices, and power supplies, the threat or effect of which is to destroy or substantially injure an industry in the United States. See id. The notice of investigation identifies fifteen respondents: Can Electric Limited of Guangzhou, China (“Can Electric”); Capnil (HK) Company Limited of Hong Kong (“Capnil”); Fractioni (Hongkong) Ltd. of Shanghai, China (“Fractioni”); Fujian Dahong Trade Co. of Fujian, China (“Dahong”); GreySolution Limited d/b/a Fibica of Hong Kong (“GreySolution”); Huang Wei Feng d/b/a A-O-M Industry of Shenzhen, China (“Huang”); KBS Electronics Suzhou Co, Ltd. of Shanghai, China (“KBS”); PLC-VIP Shop d/b/a VIP Tech Limited of Hong Kong (“PLC-VIP”); Radwell International, Inc. d/b/a PLC Center of Willingboro, New Jersey (“Radwell”); Shanghai EuoSource Electronic Co., Ltd of Shanghai, China (“EuoSource”); ShenZhen T-Tide Trading co., Ltd. of Shenzhen, China (“T-Tide”); SoBuy Commercial (HK) Co. Limited of Hong Kong (“SoBuy”); Suzhou Yi Micro Optical Co., Ltd., d/b/a Suzhou Yiwei Guangxue Youxiangongsi, d/b/a Easy Microoptics Co. LTD. of Jiangsu, China (“Suzhou”); Wenzhou Sparker Group Co. Ltd., d/b/a Sparker Instruments of Wenzhou, China (“Sparker”); and Yaspro Electronics (Shanghai) Co., Ltd. of Shanghai, China (“Yaspro”). See id. The Office of Unfair Import Investigations is also a party in this investigation. See id.

Nine respondents were found in default, namely, Fractioni, GreySolution, KBS, EuoSource, T-Tide, SoBuy, Suzhou, Yaspro and Can Electric (collectively, “the Defaulted Respondents”). See Order No. 17 (Feb. 1, 2018), unreviewed, Comm'n Notice (Feb. 26, 2018); Order No. 32 (June 28, 2018), unreviewed, Comm'n Notice (July 24, 2018). In addition, five unserved respondents (Capnil, Dahong, Huang, PLC-VIP, and Sparker) were terminated from the investigation and one respondent (Radwell) was terminated based on the entry of a consent order. See Order No. 41 (July 17, 2018), unreviewed, Comm'n Notice (Aug. 13, 2018); Order No. 42 (July 20, 2018), unreviewed, Comm'n Notice (Aug. 15, 2018).

On October 23, 2018, the Administrative Law Judge issued a final initial determination (“FID”) finding a violation of section 337 by the Defaulted Respondents. On December 20, 2018, the Commission determined not to review the FID. See 83 FR 67346-48 (Dec. 28, 2018). The Commission also requested written submissions and reply submissions on the issues of remedy, public interest, and bonding. See id.

In view of the lapse in government appropriations and partial government shutdown, the Commission has determined to extend the target date by six weeks, from February 25, 2019, to April 8, 2019. Under this schedule, written submissions on remedy, the public interest, and bonding are now due on February 15, 2019, and reply submissions on those issues are now due on February 22, 2019.

The authority for the Commission's determination is contained in section 337 of the Tariff Act of 1930, as amended (19 U.S.C. 1337), and in part 210 of the Commission's Rules of Practice and Procedure (19 CFR part 210).

By order of the Commission.
Issued: February 7, 2019.
Lisa Barton,
Secretary to the Commission.

[FR Doc. 2019-02109 Filed 2-12-19; 8:45 am]

BILLING CODE 7020-02-P